DEPARTMENT OF ENERGY

Federal Energy Regulatory Commission

[Docket No. CP08-403-000]

Wyoming Interstate Company, Ltd; Notice of Intent To Prepare an Environmental Assessment for the Proposed Piceance Compression Expansion Project and Request for Comments on Environmental Issues

June 20, 2008.

The staff of the Federal Energy Regulatory Commission (FERC or Commission) will prepare an environmental assessment (EA) that will discuss the environmental impacts of the Wyoming Interstate Company, Ltd. (WIC) involving construction and operation of facilities by WIC in Rio Blanco County and Moffat County, Colorado.

This notice announces the opening of the scoping process we will use to gather input from the public and interested agencies on the project. Your input will help the Commission staff determine which issues need to be evaluated in the EA. Please note that the scoping period will close on July 21, 2008.

This notice is being sent to affected landowners; federal, state, and local government representatives and agencies; environmental and public interest groups; Native American tribes; other interested parties in this proceeding; and local libraries and newspapers. We encourage government representatives to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice BBS provided to landowners. This fact sheet addresses a number of typically asked questions, including the use of eminent domain and how to participate in the Commission's proceedings. It is available for viewing on the FERC Internet Web site (www.ferc.gov).

Summary of the Proposed Project

The proposed project would involve modifications of the Greasewood Compressor Station (Greasewood CS) and the construction of a new compressor station called the Snake River Compressor Station (Snake River CS) as described below.

Greasewood CS

WIC proposes to uprate the existing compressor unit and install a new compressor unit at the Greasewood CS located at milepost (MP) 141.7 on Line 233 A in Rio Blanco County, Colorado. All construction activity would be confined to the previously disturbed land within the existing 10-acre industrial site. The uprate and modifications would include the following:

• Uprate its existing Solar Centaur 40 Turbine at the WIC Greesewood CS. The uprate requires the replacement of the existing control panel and software changes that would re-set control points on the unit. The uprate would increase available horsepower (hp) for the station from the existing 1,650 site hp to 2,832 site hp;

• Install an additional compressor unit within the existing station yard. The new unit would consist of a Solar Centaur 40 S Turbine capable of generating a maximum of 2,832 site hp. Subsequent to the uprate and the installation of the new unit, the Greasewood CS would have a total of 5,6654 site hp;

• Construct an extension of the compressor building approximately 25 feet to accommodate the new compressor;

• A new inlet separator installed in parallel with the existing separator;

• A new discharge gas cooler installed in parallel with the existing gas cooler; and

• 24-inch-diameter suction and discharge headers and valves.

Snake River CS

The new Snake River CS would be located at approximately MP 54.2 near the midpoint of the Piceance Lateral in Moffat County, Colorado. The new compressor station would include the following facilities:

• Two gas fired Solar Taurus 70 units with a total output of 13,664 site hp, including all ancillary equipment such as exhaust stacks, air intake, lobe oil cooler, etc.;

• A new line separator;

• A new discharge gas cooler;

• An auxiliary building that would house electrical motor controls, control panels, generators, instrument air systems, battery systems, etc. This building would be approximately 30 feet by 120 feet in size;

• Two generators would be installed for both primary and backup electric generation requirements. Each generator would be approximately 400 kilovolts-ampers (Kva);

• 24-inch-diameter suction and discharge headers and valves; and

• 40 feet self supporting (no guy wires) microwave tower and accompanying 10 feet by 12 feet prefabricated building.

In addition, WIC would also modify the regulator runs at the existing WIC's existing Wamsutter Compressor Station located in Sweetwater County, Wyoming under section 2.55(a) of the Commission's regulations. WIC would also reimburse Colorado Interstate Gas Company who would replace the existing 40-foot Lookout Mountain communication tower located in Moffat County Colorado to accommodate an additional microwave dish under section 2.55(a) of the regulations. The communication site is located on lands administered by the Bureau of Land Management.

The location of the project facilities is shown in Appendix 1.¹

¹ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Nonjurisdictional Facilities

There are no non-jurisdictional facilities associated with this project.

Land Requirements for Construction

Construction of the proposed facilities would require about 30.2 acres of land Following construction, about 6.1 acres of land would be maintained as new aboveground facility sites and pipeline right-of-way. The remaining 24.1 acres of land would be restored within new Snake River CS property or revert to its former use within the existing Greasewood CS and Wamsutter Compressor Station property. The Lookout Mountain Communication Tower would be constructed within the footprint of an existing communication tower yard.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ² will discuss impacts that could occur as a result of the construction and operation of the proposed project under these general headings:

² “We”, “us”, and “our” refer to the environmental staff of the Office of Energy Projects (OEP).

• Geology and soils.

• Land use.

• Water resources, fisheries, and wetlands.

• Cultural resources.

• Vegetation and wildlife.

• Air quality and noise.

• Endangered and threatened species.

• Hazardous waste.

• Public safety.

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Texas Eastern. This preliminary list of issues may be changed based on your comments and our analysis.

• Cultural resources may be affected by the project.

• The project may have air emissions and noise impacts.

• The Snake River CS and Greaswood CS may have visual impacts.

Public Participation

You can make a difference by providing us with your specific comments or concerns about the Piceance Compression Expansion Project. Your comments should focus on the potential environmental effects, reasonable alternatives, and measures to avoid or lessen environmental impacts. The more specific your comments, the more useful they will be. To ensure that your comments are timely and properly recorded, please send in your comments so that they will be received in Washington, DC on or before July 21, 2008.

For your convenience, there are three methods in which you can use to submit your comments to the Commission. In all instances please reference the project docket number CP08-403-000 with your submission. The docket number can be found on the front of this notice. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426;

Label one copy of the comments for the attention of Gas Branch 2, PJ11.2.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

If you do not want to send comments at this time but still want to remain on our mailing list, please return the Information Request (Appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding.

If you want to become an intervenor you must file a motion to intervene according to Rule 214 of the Commission's Rules of Practice and Procedure (18 CFR 385.214). Only intervenors have the right to seek rehearing of the Commission's decision.

The Notice of Application for this proposed project issued on May 29, 2008 identified the date for the filing of interventions as June 19, 2008. However, affected landowners and parties with environmental concerns may be granted late intervenor status upon showing good cause by stating that they have a clear and direct interest in this proceeding which would not be adequately represented by any other parties. You do not need intervenor status to have your environmental comments considered.

Availability of Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E8-14691 Filed 6-27-08; 8:45 am]

BILLING CODE 6717-01-P